DEPARTMENT OF COMMERCE

National Telecommunications and Information Administration

Notice, Establishment of a Frequency Assignment Coordination Web Site

AGENCY: National Telecommunications and Information Administration, Department of Commerce.

ACTION: Notice.

SUMMARY: The National Telecommunications and Information Administration (NTIA), as part of an agreement with the Federal Communications Commission (FCC) in its Allocations and Service Rules for the 71-76 GHz, 81-86 GHz and 92-95 GHz Bands Report and Order, plans to establish a Web-based coordination system to facilitate frequency assignment coordination between federal and non-federal operations within the 70, 80, and 90 GHz bands.¹ Until the complete web-based coordination system is operational, NTIA and the federal agencies will continue to process private sector assignments for coordination within 14 working days of the FCC providing those assignment requests to NTIA. Although the automated coordination system will not be ready for use for several months, NTIA is publicly announcing that the following Web site <http://ntiacsd.ntia.doc.gov/webcoord/status.cfm> can be accessed by non-federal applicants to determine the status of their frequency assignment applications for these bands at any point in time.

¹ Allocations and Service Rules for the 71-76 GHz, 81-86 GHz, and 92-95 GHz Bands, WT Docket No. 02-146, Report and Order, FCC 03-248 at ¶54 (released, Nov. 4, 2003) (Allocations and Service Rules Order).

FOR FURTHER INFORMATION CONTACT: Karl B. Nebbia, Office of Spectrum Management, Deputy Associate Administrator, at (202) 482-1850, or electronic mail: knebbia@ntia.doc.gov; or Thomas Woods, Office of Spectrum Management, Frequency Assignment Branch Chief, at (202) 482-1132, or electronic mail: twoods@ntia.doc.gov.

SUPPLEMENTARY INFORMATION: New technologies are making widespread beneficial use of the 70, 80, and 90 GHz bands possible for the first time. These bands, which are shared between federal and non-federal users, can now be used to offer a broad range of new products and services, such as high-speed wireless local area networks, and to increase access to broadband services, including access systems for the Internet. In order to accelerate the introduction of these technologies, NTIA and the FCC have agreed to use an innovative Web-based frequency coordination mechanism to coordinate use between the federal and non-federal sectors. The FCC's recent Allocations and Service Rules Order for the 71-76 GHz, 81-86 GHz, and 92-95 GHz bands, set in motion the steps necessary to implement these technologies. The NTIA/FCC agreement calls for the formulation of a plan for the web-based frequency coordination mechanism within four months of the release of the Allocations and Service Rules Order.² Within another four months, the interactive system would be operational. This new system will allow non-federal users to use a Web site to determine whether they have any potential conflict with federal users. Non-federal user applicants will be required to input certain information into a database. Once that information has been submitted, it will be processed within minutes and a determination will be made on whether or not the applicant can move forward in planning for their system's operational use within those bands of spectrum.

² See id. at ¶ 2.

Until the complete Web-based system is operational, however, federal and non-federal users will continue to coordinate their assignments through NTIA's Interdepartment Radio Advisory Committee (IRAC) Frequency Assignment Subcommittee (FAS). To help each applicant know the status of a particular application with respect to its FAS review, NTIA will provide status information at http://ntiacsd.ntia.doc.gov/webcoord/status.cfm. This site will identify when non-federal applications for these bands have been submitted to the FAS, when those applications completed federal agency review, and the final result.

While not a part of the agreement regarding the automated mechanism for the 70, 80, 90 GHz bands, the 21.2-23.6 GHz band is also shared between federal and non-federal users and presents similar coordination challenges. Accordingly, NTIA will also provide on this Web site status information regarding the processing of non-federal applications for that band.

Dated: December 17, 2003.
Kathy D. Smith,
Chief Counsel, National Telecommunications and Information Administration.

[FR Doc. 03-31511 Filed 12-22-03; 8:45 am]

BILLING CODE 3510-60-P